DEPARTMENT OF THE INTERIOR

Bureau of Land Management

[NV-050-5853-EU]

Notice of Intent To Prepare an Environmental Impact Statement for the Las Vegas Valley Disposal Area as Expanded by the Clark County Conservation of Public Land and Natural Resources Act of 2002, Pub. L. 107-282, November 6, 2002, as Well as Other Designated Disposal Areas Within the Las Vegas Valley

AGENCY: Bureau of Land Management, Interior.

ACTION: Notice of intent to prepare an Environmental Impact Statement (EIS) for land disposal and other land use authorizations in the Las Vegas Valley.

SUMMARY: This document provides notice that the BLM intends to prepare a comprehensive EIS with the specific purpose to authorize transfer of title disposal actions or uses of public land in the Las Vegas Valley. The project area consists of all lands currently identified for disposal within the Las Vegas Valley, including the Las Vegas Valley disposal area, the Valley West Disposal area and other legislatively authorized disposal areas. This does not preclude other authorized uses of public lands such as application for Rights-of-Way, Leases and Recreation and Public Purpose uses located in Clark County, Nevada, Hydrographic Basin 212. The EIS will fulfill the needs and obligations set forth by the National Environmental Policy Act (NEPA), the Federal Land Policy and Management Act (FLPMA), and BLM management policies. Completion of this EIS effort will ensure the intent of Congress as portrayed in the Southern Nevada Public Lands Management Act is met by providing land for organized local community development. The BLM will work collaboratively with all the interested public. The public scoping process will help identify issues and concerns based on potential build-out of the Las Vegas Valley as well as other potential uses of lands within Hydrographic Basin 212. This is critical as Basin 212 is currently classified as a serious non-attainment area for Particulate Matter 10 microns or less in size (PM10) and Carbon Monoxide (CO).

DATES: This notice initiates the public scoping process. Comments and concerns on issues can be submitted in writing to the address listed below and will be accepted throughout the 30-day scoping period. All public meetings will be announced through the local news media, newsletters, and the BLM web site at http://www.nv.blm.gov at least 15 days prior to the meeting. The minutes and list of attendees for each meeting will be available to the public and open for 30 days to any participant who wishes to clarify the views they expressed.

Public Participation: Public meetings will be held throughout the EIS scoping and preparation period. The BLM will announce the locations and times for public scoping meetings at least fifteen days prior to the actual meeting dates. At this time, the BLM anticipates meetings will be held in late September and early October. Times and places will be posted on our web site as well as in notices in the local newspapers. Early participation is encouraged and will provide guidance and suggestions for future development within the Las Vegas Valley. In addition to the ongoing public participation process, formal opportunities for public participation will be provided upon publication of the BLM draft EIS.

ADDRESSES: Written comments should be sent to the Bureau of Land Management, Las Vegas Field Office, 4701 North Torrey Pines Drive, Las Vegas, Nevada 89130-2301; Fax (702) 515-5023. Documents pertinent to this proposal may be examined at the Las Vegas Field Office.

FOR FURTHER INFORMATION CONTACT: For further information and/or to have your name added to our mailing list, contact Jeffrey Steinmetz, BLM, Las Vegas Field Office, Telephone (702) 515-5097; email jsteinme@blm.gov.

SUPPLEMENTARY INFORMATION: Public Law 107-282 added approximately 22,000 acres to the existing Las Vegas Valley Disposal Area, by amending the existing boundary defined and approved in the Southern Nevada Public Lands Management Act, Pub. L. 105-263. Shortly after approval of Pub. L. 107-282, the BLM experienced a rapid increase in the requests for public land disposal. Public Law 107-282 significantly increased the amount of land available for disposal in the Las Vegas Valley. This created an immediate need to augment the impact analysis, especially the cumulative impact analysis contained in the Las Vegas Resource Management Plan, signed October 5, 1998.

The changing needs and interests of the local governments and public relating to land for growth within the Las Vegas Valley necessitates a comprehensive update to the analysis in the existing Las Vegas Resource Management Plan, EIS. The major issue themes that will be addressed in the EIS include: Impacts to air quality; impacts to surface water hydrology and water quality; impacts to water use based on increased population; protection of federally-listed species, state-listed species, and BLM sensitive species; analyze development scenarios based on local community development land use plans; minimizing visibility impacts; balancing conflicting and compatible land uses; protection of cultural and paleontological resources; environmental justice, social and economic impacts, cumulative impacts of the project for the entire 212 hydrologic basin based on build-out (build-out will include sales, and other land use authorizations); and assessment of land surface conditions.

After gathering public comments on what issues the EIS should address, the suggested issues will be placed in one of three categories:

1. Issues to be resolved in the EIS;

2. Issues resolved through policy or administrative action; or

3. Issues beyond the scope of the EIS.

Rationale will be provided in the EIS for each issue placed in category two or three. In addition to these major issues, a number of management questions and concerns will be addressed in the EIS. The public is encouraged to help identify these questions and concerns during the scoping phase.

BLM is currently working with the Argonne National Laboratory to provide all baseline data as well as a predictive model for air impacts within the Las Vegas Valley. This analysis will be incorporated into the Las Vegas Valley Disposal EIS as the best available data to complete the cumulative impact analysis portion of the EIS.

An interdisciplinary approach will be used to develop the EIS in order to consider the variety of resource issues and concerns identified. Disciplines involved in the EIS process will include specialists with expertise in soils, minerals and geology; hydrology; botany; wildlife; transportation; visual resources; air quality; lands and realty; outdoor recreation; archaeology; paleontology; and sociology and economics.

Comments, including names and street addresses of respondents, will be available for public review at the Las Vegas Field Office during regular business hours (7:30 a.m. through 4:30 p.m.), Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Dated: August 14, 2003.
Angie C. Lara,
Acting Field Manager.

[FR Doc. 03-24666 Filed 9-25-03; 10:46 am]

BILLING CODE 4310-HC-P